DEPARTMENT OF COMMERCE

Minority Business Development Agency

[Docket No. 000724218-0217-01]

RIN: 0640-ZA09

Solicitation of Applications for the Native American Business Development Center (NABDC) Program

AGENCY: Minority Business Development Agency, Commerce.

ACTION: Notice.

SUMMARY: In accordance with Executive Order 11625 and 15 U.S.C. 1512, the Minority Business Development Agency (MBDA) is soliciting competitive applications from organizations to operate new and enhanced Native American Business Development Centers (NABDC) under its Native American Business Development Center Program. The new and enhanced NABDC Program is the successor to MBDA's Native American Business Development Center (NABDC) Program, for providing general business assistance to Native American-owned companies in various markets throughout the United States. In order for their proposals to receive consideration, applicants must comply with all information and requirements contained in this Notice.

The NABDC Program represents a significant programmatic and administrative enhancement of MBDA's traditional NABDC Program. In operation since 1982, the NABDCs provide generalized management and technical assistance and business development services to Native American business enterprises within their designated geographic service areas. The new and enhanced NABDC program described in this Notice updates the traditional NABDC model by leveraging the full benefit of telecommunications technology, including the Internet, and a variety of online computer resources to dramatically increase the level of service which the NABDCs can provide to their Native American business clients.

In addition, the NABDC Program guidelines further increase the impact of the NABDC projects by requiring that project operators not only deploy their business assistance services to the Native American business public directly, but that they also develop a network of strategic partnerships with third-party organizations located within the geographic service area. These strategic partnerships will be used to expand the reach of the NABDC project into communities and market segments that the project would have limited resources to cover otherwise, and are a key component of this program modification.

Individuals eligible for assistance under the NABDC Program are Native Americans, African Americans, Puerto Ricans, Spanish-speaking Americans, Aleuts, Asian Pacific Americans, Asian Indians, Eskimos and Hasidic Jews. References throughout this Notice to providing assistance to Native Americans also include eligible non-Native Americans listed in the preceding sentence. No service will be denied to any member of the eligible groups listed above.

DATES: The closing date for applications for each NABDC project is September 29, 2000. Anticipated time for processing of applications is 120 days. MBDA anticipates that awards for the NABDC program will be made with a start date of January 1, 2001. Completed applications for the NABDC program must be (1) mailed (USPS postmark) to the address below; or (2) received by MBDA no later than 5:00 p.m. Eastern Daylight Time. Applications postmarked later than the closing date or received after the closing date and time will not be considered.

ADDRESSES: Applicants must submit one signed original plus two (2) copies of the application. Completed application packages must be submitted to: Native American Business Development Center Program Office, Office of Executive Secretariat, HCHB, Room 5600, Minority Business Development Agency, U.S. Department of Commerce, 14th Street and Constitution Avenue, NW, Washington, DC 20230.

If the application is hand-delivered by the applicant or its representative, the application must be delivered to Room 1874, which is located at Entrance #10, 15th Street, NW, between Pennsylvania and Constitution Avenues. Applicants are encouraged to submit their proposal electronically via the World Wide Web. However, the following paper forms must be submitted with original signatures in conjunction with any electronic submissions by the closing date and time stated above: (1) SF-424, Application for Federal Assistance; (2) the SF-424B, Assurances-Non-Construction Programs; (3) the SF-LLL (Rev. 7-97) (if applicable), Disclosure of Lobbying Activities; (4) Department of Commerce Form CD-346 (if applicable), Applicant for Funding Assistance; and (5) the CD-511, Certifications Regarding Debarment, Suspension and Other Responsibility Matters; Drug-Free Workplace Requirements and Lobbying. MBDA's web site address to submit an application on-line is www.mbda.gov/e-grants. All required forms are located at this web address.

Failure to submit a signed, original SF-424 with the application, or separately in conjunction with submitting a proposal electronically, by the deadline will result in the application being rejected and returned to the applicant. Failure to sign and submit with the application, or separately in conjunction with submitting a proposal electronically, the other forms identified above by the deadline will automatically cause an application to lose two (2) points. Failure to submit other documents or information may adversely affect an applicant's overall score. MBDA shall not accept any changes, additions, revisions or deletions to competitive applications after the closing date for receiving applications, except through a formal negotiation process.

FOR FURTHER INFORMATION CONTACT: For further information, contact the MBDA Regional Office for the geographic service area in which the project will be located.

Pre-Application Conference: A pre-application conference will be held for each NABDC project solicitation. Contact the MBDA Regional Office for the geographic service area in which the project will be located to receive further information. Proper identification is required for entrance into any Federal building.

SUPPLEMENTARY INFORMATION: Following are the geographic service areas for which applications are being solicited: North Carolina Cherokee/Ashville, Minnesota Statewide, New Mexico Statewide, North/South Dakota Statewide, Oklahoma Statewide, California Statewide, Arizona Statewide, Northwest (Washington, Oregon, and Idaho).

Authority: Executive Order 11625 and 15 U.S.C. 1512.

Catalog of Federal Domestic Assistance (CFDA): 11.801 Native American Business Development Center Program.

Program Description

For the past 18 years, MBDA has operated the NABDC Program as its approach for providing general business assistance and counseling to Native American business enterprises. MBDA established NABDCs in numerous cities throughout the country to assist in the development of local Native American firms. The NABDC Program was developed to address the needs of the majority of Native American-owned firms throughout the country at a basic level, and thus the traditional NABDCs are not designed to provide specialized expertise in any specific industry.

Through its new and enhanced NABDC Program, MBDA is now providing major enhancements to the traditional NABDC Program, by leveraging the full benefit of telecommunications technology, including the Internet, and a variety of online computer-based resources to dramatically increase the level of service, which the new Centers can provide to their clients.

This enhanced approach also increases the reach of the Centers by requiring project operators to develop strategic alliances with public and private sector partners, as a means of reaching out to Native American firms within the project's geographic service area.

Background

Under the original NABDC Program, MBDA traditionally operated as many as 10 Centers in strategic locations throughout the country, for the benefit of Native American entrepreneurs. MBDA selected locations for the establishment of these Centers based on the size of the population in those markets, and the number of Native American-owned companies, as established by U.S. Census Bureau data. While this approach to site selection continues under the new NABDC Program, MBDA will award a fewer number of projects in total, in light of the performance benefits the Program stands to gain from the increased use of technology and strategic partnering.

In addition, like the original NABDC Program, the new and enhanced NABDC Program will be a mainstay of MBDA's overall business development efforts. The new and enhanced NABDC Program is at the core of the Agency's comprehensive strategy for addressing the needs of growing Native American firms. Under this strategy, MBDA has identified the following four types of services which an NABDC will generally be expected to provide:

1. Access to Markets—This involves assisting MBEs to identify and exploit opportunities for increased sales and revenue. Activities include conducting market analysis, identifying sales leads, bid preparation assistance, creating market promotions, and assistance in developing joint ventures and strategic alliances.

2. Access to Capital—This involves assisting MBEs to secure the financial capital necessary to start-up, and thereafter to fuel growth and expansion of their businesses. Undercapitalization has been a major contributor to the failure of business ventures in the Native American community over the years. Hence the goal of this activity is to help Native American entrepreneurs obtain the amount of financing appropriate to the scope of the proposed business and, thereby, to help ensure the greatest likelihood of success for the Native American venture in the marketplace.

3. Management and Technical Assistance—This component of MBDA's approach involves assisting Native American firms in establishing, improving and/or successfully maintaining their business and/or to resolve key operational issues within the business. Such issues might include the need for a recruitment and hiring strategy, evaluating a capital equipment purchase, or developing internal operating procedures.

4. Education and Training—This involves providing basic education and training to Native American entrepreneurs on important business topics. Training should be hands-on, practical, and streamlined in order to reflect the time constraints of the typical small business owner. In addition, given the proliferation of online resources from MBDA as well as others, this training should be designed to educate MBEs in the use of the Agency's electronic business assistance tools and in the use of electronic commerce generally to better access suppliers, customers and information.

Like the original NABDCs, the new and enhanced NABDCs will operate through the use of trained professional business counselors who will assist Native American entrepreneurs through direct client engagements. To date, MBDA has served more than 20,000 Native American businesses through its Centers, enabling these companies to grow and expand, creating new jobs, increasing tax revenues, and contributing to the health of the overall economy.

Enhancing the NABDCs Through Technology

Over the past three years, MBDA has developed a variety of new technology tools designed to leverage the benefits of information technology to assist the Native American business community. In addition, the Agency has developed a high-speed network strategy capable of linking all of its Centers into a single virtual organization. The goal of MBDA's new and enhanced NABDC Program strategy is to deploy these technology enhancements to all of the NABDCs, and create a state-of-the-art environment for bringing Native American businesses continuously-updated information, access to resources anywhere in the country, and the best available assistance in any given subject area at any time. The implementation of this strategy is the Minority Business Internet Portal (MBIP).

MBDA's technology tools that will be made available to the NABDCs through MBDA's MBIP site include:

• Phoenix/Opportunity—an electronic bid-matching system that alerts participating minority companies of contract and teaming opportunities directly via e-mail. Procurement leads are transmitted to minority firms on a targeted basis according to the company's industry classification and geographic market. Firms seeking to participate in this program need only to transmit their company profile to MBDA online via the Agency's Phoenix database.

• Resource Locator—a new and unique software application that allows Native American business enterprises to search for business resources and locate them on a map—interactively on the Internet. Resource Locator can help Native American firms identify trade associations representing their industries, government licensing and permit offices, management and technical assistance providers, and a host of other resources quickly and efficiently, through GIS technology.

• Online Commercial Loan Identifier—an Internet-based tool that allows Native American enterprises to shop for commercial loans online, and identify the best available financing terms. The Commercial Loan Identifier is designed to give Native American firms the benefit of a nationwide market for commercial loan products.

• Business and Market Planning Software—software packages to streamline and enhance the development of business plans, marketing plans and other strategic business documents.

The MBIP will serve as a very effective vehicle for enhancing the scope and service capability of the NABDC network. Through the portal site, each NABDC will receive a standardized electronic toolkit of business development tools and applications. This “electronic toolkit” will provide important programmatic benefits for the NABDCs.

Specifically:

• These electronic tools will help to streamline the process of delivering client assistance to Native American business enterprises, giving the Centers the ability to service greater numbers of clients with existing resources.

• In addition, MBDA expects that these electronic tools will be in high demand because of the significant added value that they are able to create for business enterprises. Demand for these tools will further enhance the position of the NABDCs as important resources within their local markets.

• Finally, by participating in MBDA's nationwide high-speed network, each NABDC will be able to access the latest information regarding best practices, emerging market trends, success strategies, and other activities in the Native American business development arena.

Current trends in technology, procurement streamlining, globalization, and a host of other market factors have had a dramatic impact on the Native American business community. Native American-owned businesses, regardless of their industry, now find themselves subject to rapidly changing market conditions. To ensure their continued growth, these firms will need access to the best available information and expertise on a continuously updated basis. The new NABDC Program, combined with the MBIP site, directly respond to this need, by leveraging MBDA's traditional business development infrastructure through state-of-the-art technology and communications.

Work Requirements

The work requirements specify the duties and responsibilities of each recipient operating an NABDC.

Although it is not necessary for the applicant to have an office in the geographic service area, the NABDC office must be strategically located in the geographic service area to ensure that it is close to the available public and private sector resources, within a reasonable commuting distance to the minority business community, and accessible to public transportation. The NABDC must be opened and be fully operational within 30 days after receipt of the award. Fully operational means that all staff are hired, all signs are up, all items of furniture and equipment are in place and operational, and the NABDC's doors have been fully opened to the public for service.

An NABDC operator must provide services to all eligible clients within its specified geographic service area. In addition, each operator must contribute its efforts to help support MBDA's online business assistance network as established by Agency policies.

NABDCs are required to perform work in four basic areas:

1. Market Building

To identify, develop and leverage public and private sector resources and business opportunities for their clients;

(a) Market Research and Development which systematically investigates the service area market to see what business and capital opportunities exist for Native American business enterprise (MBE) development; search for sources of capital, sales opportunities, business buy-outs and new start possibilities; bring the research to a practical level of utility to fit the capability and needs of specific MBE client firms of the area. As market research is conducted, the NABDC will make optimum use of the MBDA network to ensure that the information is made available to fellow operators, and to MBEs throughout the country.

(b) Market Promotion which promotes Native American business development in the local business community by obtaining support from the community, as a whole for the utilization of Native American-owned business, is in the best interests of the local market.

The NABDC will promote individual firms to the public and private sectors to make the market aware of the capability, talent and capacity of the local MBE firms. The NABDC may utilize public service announcements and paid advertising. The NABDC promotes MBEs at local Chambers of Commerce, business and trade associations, corporate and company trade fairs and meetings, state and local government agency purchasing departments, economic development and planning offices and MBE development events. In addition, the NABDC shall promote and participate in MED Week activities involving the full participation of the private and public sectors. MED Week is a major annual event of MBDA on both the local and national levels.

Under this function, the NABDC shall carry out a plan-of-action that may include, but is not limited to, the following actions: (1) Publicize the NABDC and its services throughout the geographic service area; (2) Organize press briefings or distribute press releases for area newspapers; (3) Deliver speeches before key Native American audiences in the NABDC service area; (4) Secure a list of service area Native American vendors who are listed in MBDA's Phoenix System and use them in market promotion activities; (5) Interface with Native American Chambers of Commerce and trade associations for access to their mailing lists; (6) Communicate with bankers and other officers of financial institutions for possible referrals of Native American entrepreneurs as existing prospective Native American clients to the NABDC; (7) Identify existing lists of successful Native American managers, professionals, technical experts and skilled crafts-people, who may have an interest in or exhibit qualifications for business ownership; (8) Develop an NABDC brochure for mail-out and distribution to the public, as well as for inclusion on the MBDA web site; and (9) E-mail information and/or newsletters to existing and prospective local Native American entrepreneurs.

c. Resource and Inventory Development which identifies local opportunities and resources as well as local Native American businesses, qualified to take advantage of them. This requirement will enable the NABDC to support the maintenance of content for the Phoenix/Opportunity databases and other online systems as well as to track local market trends and market demand for goods and services. Under this function, the NABDC must (1) Develop and maintain inventories of area opportunities and resources, which should include: Electronic Commerce—information technology affecting the marketability of its clients, i.e., access to new markets, access to capital and business opportunities and other resources; Market Opportunities—both in the public sector (Federal, state and local) and in the private sector (foreign and domestic); Capital Opportunities—e.g., loans, bonds, trade credits, and equity investments; Business Ownership Opportunities—e.g., franchises, licensing arrangements, mergers and buy-outs; Education and Training Opportunities—e.g., educational institution programs and other training resources; (2) Register eligible local Native American firms in MBDA's Phoenix database, which is a national inventory of Native American vendor firms capable of selling their goods and services to the public and private sector.

(d) Match Opportunities and Close Transactions which matches eligible Native American entrepreneurs with specific viable businesses, market and/or capital opportunities. This function contributes to an NABDC's financial packaging and/or procurement performance goals, and is the only market development function outside of the standard client business assistance in which a portion of an NABDC's time can be directly associated to individual Native American business clients and resource customers. This client specific time, no matter how small, is considered client assistance and may be subject to client fees. Under this function, the NABDC shall match qualified Native American entrepreneurs with identified opportunities and resources by: (1) Accessing vendor information systems, including the Phoenix/Opportunity databases; (2) Maintaining a constant awareness of the Native American firms that operate within the geographic service area and their capabilities; (3) Maintaining direct contact with purchasing executives, government procurement officials, banking officials and others so that representatives of the NABDC are in a position to learn about available business opportunities, both formally and informally; (4) Engaging in relationship brokering between purchasing organization and individual Native American firms capable of fulfilling their requirements; and (5) Assisting in direct negotiations between purchasing organization and individual Native American firms, in appropriate cases, in order to help resolve issues, serve as an advocate for the Native American firm, or otherwise assist in bringing the transaction to closure.

2. Client Services

To provide direct client assistance to Native American business enterprise on the basis of individualized professional engagements. Under these duties, the NABDC shall assist Native American firms and individuals, which have agreed in writing to become clients, in establishing, improving and/or successfully maintaining their businesses. All new clients shall be entered into the Performance database and registered in the Phoenix System. It is required that clients and their service hours should be entered in the Performance database on a regular basis, preferably weekly.

This assistance is defined as the function by which the NABDC provides direct services to its clients. It may range from general counseling to the identification, analysis and resolution of specific business problems. Clients assisted more than once during the funding period may only be counted once in that funding period. Group sessions are one method an NABDC can use to provide business development services to Native American clients. This function may be subject to client fees and directly contributes to an NABDC's performance goals.

Under this function, the NABDC shall provide assistance to eligible Native American firms and individuals (as referenced in Executive Orders 11625 and 12432) seeking assistance from the NABDC, including 8(a) certified and graduate firms. However, the NABDC shall not perform or engage in the operation of a firm. Client services include, but are not limited to, the following types of assistance: (1) Marketing, e.g., market research, promotion, advertising and sales, sales forecasting, market feasibility studies, pricing, procurement assistance, product and customer service, brochure design (excludes mass printing), and general counseling; (2) Finance and Accounting, e.g., capital budgeting, general accounting, break-even analysis, cost accounting, financial planning and analysis budgeting, tax planning, financial packaging, general counseling, and mergers and acquisitions (excludes bookkeeping, tax preparation, and audits); (3) Manufacturing, e.g., plant location and site selection, plant management, materials handling and distribution, total quality management, metrication for world market, and general counseling; (4) Construction and Assistance, e.g., estimating, bid preparation, bonding, take-offs, and general counseling; (5) International Trade Assistance, e.g., exporting, importing, letters of credit, bank draft, dealerships, agencies, distributorship, exporting trading companies, joint ventures, general counseling, and freight forwarding and handling; (6) Administration, e.g., office management, procedures and systems, inventory control, purchasing, total quality management, awareness of metric system, and general counseling; (7) Personnel, e.g., human resource management, job evaluation and rating system, training, and general counseling; (8) General Management, e.g., organization and structure, formulating corporate policy, feasibility studies, reports and controls, public relations, staff scheduling, legal services (excludes litigation), business planning, organizational development, bid preparation, and general counseling.

In order to stay competitive in the increasingly global economy, Native American business owners should consider ISO 9000 or other quality assurance standards. The NABDC must have knowledge of what these standards are, how to properly implement the standards, and how to obtain ISO 9000 Quality System certification for its clients.

The one-on-one assistance to any client shall be limited to no more than 250 hours per funding period unless prior approval is requested from the appropriate MBDA Regional Director, and approved by the Grants Officer of the Department of Commerce.

3. Operational Quality

To maintain the efficiency and effectiveness of its overall operations as well as the quality of its client services. These duties are the means by which an NABDC maintains the efficiency and effectiveness of its overall operations as well as the quality of its client services. The function directly contributes to an NABDC's overall qualitative evaluation and rating as well as the successful completion of all work requirements. Under this function, the NABDC shall: (1) Execute signed work plan agreements and engagement letters with clients; (2) Formally describe the methodology that will be used in achieving the work plan objectives for each client; (3) Input progress/results to the performance database in a timely manner. (4) Establish procedures for collecting and accounting for all fees charged to clients; (5) Maintain records/files for all work charged to the program and clients; (6) Obtain written acceptance and verification (with client signatures) of services provided to its clients. For services reported, documentation must be in the NABDC's client files within 30 days after the end of every quarter in which a client receives services; (7) Comply with all reporting requirements provided upon award; (8) Cooperate with MBDA in maintaining content for the Phoenix/Opportunity databases, Resource Locator, and other online tools located at www.mbda.gov; and (9) Promote and utilize the services and resources of other MBDA programs, sponsored efforts and/or voluntary activities. The NABDC shall identify MBDA as the funding sponsor by providing signs worded as follows:

(geographic area)

Native American Business Development Center ™

Operated by

Funded By: Minority Business Development Agency (MBDA), U.S. Department of Commerce

These signs should be highly visible to the NABDC clients and general public. They should be prominently displayed on entrances and doors. Include the name of MBDA on all stationery, letterhead, brochures, etc. The NABDC is not authorized to use either the Department's official seal or the MBDA logo in any of its publications, documents or materials without specific written approval from the U.S. Department of Commerce. Identify the NABDC immediately when answering the telephone. If the recipient also requires that its organization's name be given, it should be provided only after the NABDC has been verbally identified to a caller. Refer to MBDA in all advocacy and outreach efforts such as speaking engagements, news conferences, etc.

The term Native American Business Development Center (NABDC) is a trademark of the Federal Government, and the Government reserves exclusive rights in the term. Permission to use the term is granted to the award recipient for the sole purpose of representing the activities of the award recipient in the fulfillment of the terms of the financial assistance award. The Minority Business Development Agency reserves the right to control the quality of the use of the term by the award recipient. Whenever possible, for example in promotional literature and stationery, use the ™ designation as in Native American Business Development Center™.

4. Developing and Maintaining a Network of Strategic Partners

The work requirements for an award recipient under the NABDC Program include the development of a network of 3 alliances between the NABDC and key strategic partners selected by the recipient. The NABDC is required to establish the network of 3 Strategic Partners within 120 days after the award. The NABDC is required to maintain these alliances throughout the duration of the award. The NABDC must replace a Strategic Partner within 45 days after termination of a previously established alliance. The Strategic Partners shall be public or private sector organizations located within the project's geographic service area that are positioned to assist the project to achieve its goals for assisting the minority business community established under the terms of the award. Strategic Partners may include:

• Minority Business Enterprise (MBE) programs operated by state, county or city governments;

• Chambers of Commerce or trade associations focused on the needs of the Native American business community;

• Small Business Development Centers, or other college and university entrepreneurial development programs;

• Community Development Corporations (CDCs);

• Banks and financial institutions; and

• Faith organizations having economic development components, whose activities are not used for purposes the essential thrust of which is sectarian.

Each Strategic Partner shall be evidenced by a written Memorandum of Understanding (MOU) that expressly sets forth the conditions under which the partners agree to operate. Specifically, the Strategic Partners must agree to serve as a local resource for Native American-owned businesses seeking to obtain NABDC services. The Strategic Partner must at a minimum:

• Provide effective guidance to Native American entrepreneurs in accessing MBDA's computer-based business assistance tools which are available on-site at the Strategic Partner's location;

Examples of other kinds of activities that might be required of the Strategic Partner include, but are not limited to:

• Designate appropriate office space within their facilities for providing NABDC services;

• Establish a library of training materials, how-to guides, business publications and other information, both in print and electronic format, to be made available to Native American entrepreneurs on a walk-in basis;

• Provide high-quality business counseling to Native American business enterprises if the Strategic Partner is one that offers direct client counseling;

• Provide intake services for the NABDC with respect to Native American firms who approach the Strategic Partner for assistance but require counseling by the NABDC;

• Provide Native American firms with high-quality referrals to outside resources where the firm has a need for specialized assistance which is outside the scope of the NABDC Program;

• Support the NABDC project in coordinating MED Week activities within the geographic service area;

In selecting Strategic Partners, each award recipient should consider establishing a diverse group that appropriately reflects the needs of the Native American business community within the service area. The skills, abilities and areas of concentration on the part of the Strategic Partners should be complementary, and collectively the skills and abilities of the Strategic Partners should complement those of the NABDC project operator.

In exchange for its compliance with the foregoing terms, and such other terms as the parties may seek to establish, the Strategic Partner will be eligible to serve as a host for the MBDA suite of business development tools described in the Enhancing the NABDCs Through Technology subsection of this Notice. The Strategic Partner will also be authorized to make public its relationship with MBDA through the NABDC project, and to refer to the partnership in brochures, advertisements, press releases and other media. Through the MOU relationship, the Strategic Partner will also be entitled to receive direct access to MBDA's information base of case studies, best practices, market research, and statistical data.

Computer Requirements

MBDA requires that all award recipients meet certain requirements related to the acquisition, installation, configuration, maintenance and security of information technology (IT) assets in order to ensure seamless and productive interface between and among all grant recipients, Native American-owned businesses, the MBDA federal IT system and the public. These required assets and their configuration are hereinafter referred to as the “enterprise.” The basic components of the enterprise are the desktop workstations, the server, local area network (LAN) components and a connection to the Internet.

At a minimum, each grantee shall provide one (1) desktop computer for the exclusive use of each employee delivering Native American business assistance to the public under an award from MBDA. All desktop computers shall be inter-connected with a Server computer using an Ethernet protocol enabling communication with all workstations on the network. The Server shall have a constant, active connection to the Internet during all business hours. The recipient shall ensure that each of his/her employees, to include management, administrative personnel, contractors, full-time, part-time, and non-paid (volunteer) staff have a unique electronic mail (email) address available to the public. Each grantee shall design, develop and maintain, in accordance with the computer requirements, a presence on the Internet's World Wide Web and shall maintain appropriate computer and network security precautions during all periods of funding by MBDA. All IT requirements, as described herein, shall be met within 30 calendar days after the award.

1. Network Design: At all locations where services are delivered to the eligible public as defined by Executive Order 11625, the recipient shall operate a “Client-Server” configured local area network (LAN) enabling each staff person delivering services to the eligible public exclusive access to a personal computer workstation during all business hours. MBDA shall, from time to time, designate certain configurations of the enterprise hardware and software to meet interface requirements. Currently, MBDA recommends servers use an operating system that is fully compatible with Microsoft Windows NT 4.0 with a service pack five (5) update. Primary Domain Control (PDC) servers or any server providing principal service to the desktops shall contain 18 or more gigabytes (GB) of hard drive space using two or more 9 GB+ disks configured appropriately to ensure data retention should one disk fail. At least one (1) Pentium III processor (CPU), or a CPU ensuring similar speed, shall be used in the PDC server or any other server providing principal service to the desktops. Web servers, mail servers and/or servers maintained by a third party such as an Internet Service Provider (ISP) shall meet the minimum server specifications as stated herein. A “trusted” relationship, as appropriate, shall be established and maintained between the MBDA PDC server and those operated by, or operated for, the recipient to ensure access by MBDA system administration personnel during normal business hours. (In a network that consists of two or more domains, each domain acts as a separate network with its own accounts database. Even in the most rigidly stratified organizations, some users in one domain will need to use some or all of the resources in another domain. The usual solution to confirming user access levels among domains is what's called a (trust relationship.) From time to time, MBDA will require access to servers and desktop workstations after business hours and on holidays and weekends. For this purpose, the recipient shall ensure appropriate communications links are active and appropriate personnel on station, upon 24-hour notice from MBDA.

2. Desktop Workstations: All desktop systems shall be not less than two (2) calendar years old at time of award and shall contain a processor (CPU) operating at speeds not less than 400 Megahertz (Mhz). Each desktop system shall contain a hard drive with a storage capacity of at least 5 GB. All desktop systems shall have installed an operating system fully compatible with Microsoft Windows NT with MS Office 97 Professional Edition or higher, Microsoft Internet Explorer 4.x. Since workstations may be linked to a live, two-way conference connection with potential clients, at least 50% of all employee workstations shall be fully operational with a qualified staff person positioned at the keyboard during all business hours to include lunch and break periods.

3. Maintenance and Security: A network map (“as-built”) reflecting adherence to the computer and networking requirements set forth herein shall be maintained by the recipient for review by MBDA at any time. Each recipient shall designate and train one administrative person competent in the operation of an operations system fully compatible with Windows NT 4.0 network and local area network (LAN) technology as described herein. If a firewall, proxy server or similar security component is used, MBDA's server shall be “trusted” for full access to all files relevant for network and administrative operations. From time to time, MBDA shall require certain software be loaded on servers and desktops. In any given year, the cost of this additional software should not exceed $200.00 per workstation and $500.00 per server. Every employee of the Center shall be assigned a unique username and password to access the system. Every employee shall be required to sign a written computer security agreement. (A suggested format for the computer security agreement will be provided at the time of award.) Every manager, employee, and contractor and any other person given access to the computer system shall sign the security agreement and an original copy of the signed agreement shall be kept in the Center's files. A photocopy of the agreement shall be sent by fax to MBDA at: (202) 482-2696 no later than 30 days after the award. All subsequent new hires and associations requiring access to Center or MBDA systems shall read, understand and sign the security agreement prior to issuance of a password. No employee shall have access to the MBDA system without a signed security agreement on file at MBDA.

4. Web site: Each recipient shall create and maintain a public web site using a unique address (e.g., www.center-name.com). The first page (Index page) of the web site shall clearly identify the recipient as a Native American Business Development Center funded by the U.S. Department of Commerce's Minority Business Development Agency. The Index page of the web site shall load on software fully compatible with Windows Internet Explorer 4.x browser software using a normal home computer with 56Kb/s analog phone line connection in less than ten (10) seconds. The web site shall contain the names of all managers and employees, the business and mailing address of the Center, business phone and fax numbers and email addresses of the Center and employees, a statement referencing the services available at the Center, the hours under which the Center operates and a link to the MBDA homepage (www.mbda.gov). For purpose of electronically directing clients to the appropriate Center staff, the web site shall also contain a short biographical statement for each employee of the Center including management, contractors, part-time, full-time, and non-paid (volunteer) personnel, providing services directly to the eligible public under an award from MBDA. This biographical statement shall contain: the full name of the employee, and a brief description of the expertise of the employee to include academic degrees, certifications and any other pertinent information with respect to that employee's qualifications to deliver Native American business assistance services to eligible members of the public.

No third party advertising of commercial goods and services shall be permitted on the site. All links from the site to other than federal, state or local government agencies and non-profit educational institutions must be requested, in advance and in writing, through the Chief Information Officer, MBDA Office of Information Technology Services to the Grants Office for written approval. Such approval shall not be unreasonably withheld but approval is subject to withdrawal if MBDA determines the linked site unsuitable. No employee of the Center, nor any other person, shall use the Center web site for any purpose other than that approved under the terms of the agreement between the recipient and MBDA. Every page of the web site shall be reviewed by the recipient for accuracy, currency, and appropriateness every three (3) months. Appropriate privacy notices and handicapped accessibility will be predominately featured. From time to time, MBDA shall audit the recipient's web site and recommend changes in accordance with the guidelines set forth herein.

5. Time for Compliance: Within 30 days after the award, the recipient shall report via email to the Chief Information Officer, MBDA Office of Information Technology Services and the Grants Officer that he/she has complied with all technical requirements as specified herein. Within 30 days after the award, the recipient shall report the name, contact telephone numbers and email addresses of the Project Director, Network or System Administrator. As appropriate, the recipient shall also provide the telephone number and email address for the Technical Contact at the Internet Service Provider (ISP) providing Internet access for the grantee, the IP number of the Domain Name Server (DNS) and/or Primary Domain Control (PDC) server, and any other technical information as specified in the Technology Requirements.

6. Performance System: All required performance reporting to MBDA shall be conducted via the Internet using the Performance system to be found at a secure web site (partner.mbda.gov). Within 30 days after the award, each business development specialist (BDS) and/or anyone providing business assistance to the public under the award shall have satisfactorily completed the Performance System Training Course (PSTC). This course is available on-line from the Performance web site (partner.mbda.gov). Only those persons giving direct assistance to the eligible public shall be given passwords and access to enter Performance data into the system. Only trained staff shall enter data into the Performance system. The person giving service to the client should enter performance data, not by administrative personnel. There shall be no “sharing” of passwords on the Performance system. Although not required, MBDA encourages input of information on a daily basis.

7. Data Integrity: The recipient shall take the necessary steps to ensure that all data entered into MBDA systems, and systems operated by the recipient in support of the award, or by any employee of the recipient is accurate and timely.

Performance Measures

In accordance with 15 CFR Parts 14 and 24, applicants selected will be responsible for the effective management of all functions and activities supported by the financial assistance award. Recipients will be required to use program performance measures in a performance report due thirty (30) days after the end of the second quarter and to provide an end-of-year assessment of the accomplishments of the project using these measures. The end-of-year or final performance report is due 90 days after the end of the budget year. Once the project is awarded, the evaluation criteria, along with the assigned weight value, to be used for measuring the project performance on an ongoing basis are:

1. The number of completed work products (20);

2. The dollar value of transactions (40);

3. The number of Strategic Partners (20);

4. Operational Quality (20)

• Number of new clients (5);

• Number of Client Service Hours (5);

• Client Satisfaction (5);

• Management Score (5).

The minimum performance goals required for the above listed performance measures for each of the solicited geographic service areas are outlined under the Funding Availability sub-heading for each geographic service area. The minimum performance goals are listed on an annual basis and will be broken out into quarterly increments by recipients, within 30 days after the award, for actual evaluation purposes.

Definitions

Completed Work Product—Completed work product consists of work assignments which the project performs under a professional engagement of an eligible client firm. For a task to constitute completed work product it is necessary that the task:

(1) be one requiring the business expertise of the project staff;

(2) be agreed to by the client;

(3) be fully completed and delivered to the client; and

(4) be performed in a high quality and professional manner.

Dollar Value of Transactions—The dollar value of completed financial transactions represents the total principal value of executed contracts, approved loans, equity financing, acquisitions, mergers, or other binding financial agreements secured by clients of the project, with the assistance of project staff. For purposes of this performance element, eligible financial transactions are those which have a specific dollar value, and which increase the revenues of the client firm, expand its capital base, or produce some other direct commercial benefit for client firms. In order to be deemed complete, a financial transaction must be documented by an executed and binding agreement between the client firm and a party capable of performing its obligations under the terms of the agreement.

MBDA recognizes that the financial obligations evidenced by these transactions may be long-term, and require performance over an extended period. Consequently it is not necessary that the funds or other financial value specified under the agreements have actually changed hands for the project to receive credit under this performance element, so long as the agreement of the parties is documented and binding.

Strategic Partners—Strategic partners are those organizations with whom the recipient enters into specific agreements for mutual support. Strategic partners may be either public or private sector institutions, must have a clear mission, and must have a permanent organizational structure. Individuals or organizations that have a loosely defined structure or that operate on an ad hoc basis will not be considered as strategic partners for purposes of this performance element. MBDA will have no relationship with or responsibility to strategic partners.

In order to get credit for obtaining a strategic partner, a project operator must prepare a written agreement identifying:

(1) The responsibilities and duties which the project and the strategic partner each agree to undertake;

(2) The resources which each party agrees to commit to the partnership;

(3) The goals which the project and the strategic partner each seek to achieve by entering into the partnership; and

(4) the point of contact within the strategic partner organization for issues involving the partnership.

(5) That strategic partners will not be allowed to charge and collect fees for services related to the project.

Operational Quality—Operational quality refers to the quality and effectiveness of the project operator's delivery of client services, as evidenced by the following performance elements relating to the day-to-day management of the project:

(a) Number of new clients;

(b) Number of client service hours;

(c) Client satisfaction; and

(d) Management assessment.

Client satisfaction will be determined through a consultation process with clients of the individual NABDC. The consultation will be used to rate the level of quality for client satisfaction.

The management assessment reflects MBDA's own evaluation of the overall management of the project, based on the Agency's internal review of the project's operations. The management assessment reflects such areas as the development of written engagement letters and work plans, proper staffing, adherence to scheduled work hours, recordkeeping, and any other areas which MBDA may deem to be relevant to determining the overall quality of the project's operations.

Performance Standards

The year-to-date performance of an NABDC will be based on the following rating system:

Minimum required percent of goals needed for each rating category | Minimum required points needed for each rating category | Rating categories
100% and above* | Above 100** | Excellent
At least 90% | 90-100 | Commendable
At least 80% | 80-90 | Good
At least 75% | 75-79 | Satisfactory
At least 70% | 70-74 | Marginal
Below 70% | Below 70.0 | Unsatisfactory
Not to exceed 110%.
Not to exceed 110 points.

Performance Incentives

MBDA recognizes and rewards those NABDCs that have maintained high performance throughout their award (three funding periods). NABDCs can earn additional 2 bonus funding periods without competition based upon their overall actual year-to-date performance for the duration of the award. The NABDC Performance Standards outlined above allow each NABDC with an overall “excellent” rating for its performance during the initial competitive funding period to qualify for up to 2 additional funding periods without further competition. A year-to-date excellent rating for the first two funding periods and part of the third funding period of an award will result in “bonus funding periods” as follows:

• Performance of at least 25% above the minimum goal in each performance element for at least 28 months will allow an NABDC to receive one bonus funding period. Therefore, the award can total up to four funding periods prior to a required competition.

• Performance of at least 25% above the minimum goal in each performance element for at least 6 months of the first bonus funding period will allow an NABDC to receive a second bonus funding period. Therefore, the award can total up to five funding periods prior to a required competition.

No award may be longer than five funding periods without competition no matter what an NABDC's performance happens to be.

Funding Availability: MBDA anticipates that a total of approximately $1.6 million will be available in FY 2001 for Federal assistance under this program. Applicants are hereby given notice that funds have not yet been appropriated for this program. In no event will MBDA or the Department of Commerce be responsible for proposal preparation costs if this program fails to receive funding or is canceled because of other agency priorities.

Financial assistance awards under this program may range from $160,000 to $287,500 in Federal funding per year based upon Native American population, the size of the market and its need for MBDA resources. Applicants must submit project plans and budgets for three years. The annual awards must have Scopes of Work that are clearly severable and can be easily separated into annual increments of meaningful work that will produce measurable programmatic objectives. Maintaining the severability of each annual funding request is necessary to ensure the orderly management and closure of a project in the event funding is not available for the second or third year continuation of the project. Projects will be funded for no more than one year at a time. Funding for subsequent years will be at the sole discretion of the Department of Commerce (DoC) and will depend on satisfactory performance by the recipient and the availability of funds to support the continuation of the project.

Geographic Service Areas

An operator must provide services to eligible clients within its specified geographic service area. MBDA has defined the service area for each award below. To determine its geographic service areas, MBDA uses states, counties, Metropolitan Areas (MA), which comprise metropolitan statistical areas (MSA), consolidated metropolitan statistical areas (CMSA) and primary metropolitan statistical areas (PMSA) as defined by the OMB Committee on MAs (http://www.whitehouse.gov/OMB/inforeg/index.html) and other demographic boundaries as specified herein. Services to eligible clients outside of an operator's specified service area may be requested, on a case-by-case basis, through the appropriate MBDA Regional Director and granted by the Grants Officer.

1. Application: North Carolina Cherokee/Ashville

Geographic Service Area: Cherokee/Ashville, North Carolina MA.

Award Number: 04-10-20007-01.

The recipient is required to maintain the primary NABDC on the Cherokee reservation and a satellite office in the Ashville, North Carolina MA.

Contingent upon the availability of Federal funds, the cost of performance for each of the three 12-month funding periods from January 1, 2001 to December 31, 2003, is estimated at $188,000. The total Federal amount is $188,000. The minimum cost share of 15% is not required.

The minimum goals for the NABDC are:

Completed Work Products: 124.

Dollar Value of Transactions: $13,976,471.

Number of New Clients: 146.

Number of Client Service Hours: 2,475.

Pre-Application Conference: For the exact date, time and place, contact the Atlanta Regional Office at (404) 730-3300.

For Further Information and a copy of the application kit, contact Robert Henderson, Regional Director.

2. Application: Minnesota Statewide

Geographic Service Area: State of Minnesota.

Award Number: 05-10-20003-01.

Contingent upon the availability of Federal funds, the cost of performance for each of the three 12-month funding periods from January 1, 2001 to December 31, 2003, is estimated at $160,000. The total Federal amount is $160,000. The minimum cost share of 15% is not required.

The minimum goals for the NABDC are:

Completed Work Products: 106.

Dollar Value of Transactions: $12,000,000.

Number of New Clients: 125.

Number of Client Service Hours: 2,125.

Pre-Application Conference: For the exact date, time and place, contact the Chicago Regional Office at (312) 353-0182.

For Further Information and a copy of the application kit, contact Carlos Guzman, Regional Director.

3. Application: New Mexico Statewide

Geographic Service Area: State of New Mexico.

Award Number: 06-10-20009-01.

The recipient is required to maintain its NABDC in Albuquerque, New Mexico. Contingent upon the availability of Federal funds, the cost of performance for each of the three 12-month funding periods from January 1, 2001 to December 31, 2003, is estimated at $188,000. The total Federal amount is $188,000. The minimum cost share of 15% is not required.

The minimum goals for the NABDC are:

Completed Work Products: 124.

Dollar Value of Transactions: $13,976,471.

Number of New Clients: 146.

Number of Client Service Hours: 2,475.

Pre-Application Conference: For the exact date, time and place, contact the Dallas Regional Office at (214) 767-8001.

For Further Information and a copy of the application kit, contact John Iglehart, Regional Director.

4. Application: North/South Dakota Statewide

Geographic Service Area: States of North and South Dakota.

Award Number: 06-10-20010-01.

Contingent upon the availability of Federal funds, the cost of performance for each of the three 12-month funding periods from January 1, 2001 to December 31, 2003, is estimated at $155,000. The total Federal amount is $155,000. The minimum cost share of 15% is not required.

The minimum goals for the NABDC are:

Completed Work Products: 106.

Dollar Value of Transactions: $12,000,000.

Number of New Clients: 125.

Number of Client Service Hours: 2,125.

Pre-Application Conference: For the exact date, time and place, contact the Dallas Regional Office at (214) 767-8001.

For Further Information and a copy of the application kit, contact John Iglehart, Regional Director.

5. Application: Oklahoma Statewide

Geographic Service Area: State of Oklahoma.

Award Number: 06-10-20011-01.

The recipient is required to maintain the NABDC in the Tulsa, Oklahoma MA.

Contingent upon the availability of Federal funds, the cost of performance for each of the three 12-month funding periods from January 1, 2001 to December 31, 2003, is estimated at $235,000. The total Federal amount is $235,000. The minimum cost share of 15% is not required.

The minimum goals for the NABDC are:

Completed Work Products: 156.

Dollar Value of Transactions: $17,647,059.

Number of New Clients: 184.

Number of Client Service Hours: 3,125.

Pre-Application Conference: For the exact date, time and place, contact the Dallas Regional Office at (214) 767-8001.

For Further Information and a copy of the application kit, contact John Iglehart, Regional Director.

6. Application: Arizona Statewide

Geographic Service Area: State of Arizona.

Award Number: 09-10-20007-01.

Contingent upon the availability of Federal funds, the cost of performance for each of the three 12-month funding periods from January 1, 2001 to December 31, 2003, is estimated at $180,000. The total Federal amount is $180,000. The minimum cost share of 15% is not required.

The minimum goals for the NABDC are:

Completed Work Products: 119.

Dollar Value of Transactions: $13,411,765.

Number of New Clients: 140.

Number of Client Service Hours: 2,250.

Pre-Application Conference: For the exact date, time and place, contact the San Francisco Regional Office at (415) 744-3001.

For Further Information and a copy of the application kit, contact Melda Cabrera, Regional Director.

7. Application: California Statewide

Geographic Service Area: State of California.

Award Number: 09-10-20008-01.

Contingent upon the availability of Federal funds, the cost of performance for each of the three 12-month funding periods from January 1, 2001 to December 31, 2003, is estimated at $287,500. The total Federal amount is $287,500. The minimum cost share of 15% is not required.

The minimum goals for the NABDC are:

Completed Work Products: 188.

Dollar Value of Transactions: $21,176,471.

Number of New Clients: 221.

Number of Client Service Hours: 3,750.

Pre-Application Conference: For the exact date, time and place, contact the San Francisco Regional Office at (415) 744-3001.

For Further Information and a copy of the application kit, contact Melda Cabrera, Regional Director.

8. Application: Northwest

Geographic Service Area: States of Washington, Oregon and Idaho.

Award Number: 09-10-20009-01.

Contingent upon the availability of Federal funds, the cost of performance for each of the three 12-month funding periods from January 1, 2001 to December 31, 2003, is estimated at $190,000. The total Federal amount is $190,000. The minimum cost share of 15% is not required.

The minimum goals for the NABDC are:

Completed Work Products: 125.

Dollar Value of Transactions: $14,117,647.

Number of New Clients: 147.

Number of Client Service Hours: 2,500.

Pre-Application Conference: For the exact date, time and place, contact the San Francisco Regional Office at (415) 744-3001.

For Further Information and a copy of the application kit, contact Melda Cabrera, Regional Director.

Matching Requirements

It is not required that an applicant for an award to operate an NABDC propose a cost-share contribution. Cost sharing is the portion of the project cost not borne by the Federal Government. However, an applicant may propose a cost-share contribution in any of the following four means or a combination thereof: (1) Cash contributions, (2) non-cash applicant contributions, (3) third party in-kind contributions, and (4) client fees for services rendered.

If the NABDC chooses to contribute a cost-share amount by charging fees, there are policy restrictions with which it must comply:

First, client fees charged for one-on-one assistance must be based on a rate of $100 per hour. Second, the NABDC must set fee rates based on the following chart:

Gross receipts of client | Base rate for services rendered | Percent of cost borne by client | Client fee per hour
$0-99,999 | $100.00 | 10 | $10.00
100,000-299,999 | 100.00 | 20 | 20.00
300,000-999,999 | 100.00 | 30 | 30.00
1 Million-2,999,999 | 100.00 | 40 | 40.00
3 Million-4,999,999 | 100.00 | 50 | 50.00
5 Million and Above | 100.00 | 60 | 60.00

Third, the NABDC must contribute cash for uncollected fees that were included as part of the cost sharing contribution committed for this award. Fourth, client fees applied directly to the award's cost sharing requirement must be used in furtherance of the program objectives. Fifth, if the NABDC elects to charge fees, they must be charged to all eligible clients, regardless of minority group identification.

Type of Funding Instrument

Financial assistance awards in the form of cooperative agreements will be used to fund this program. MBDA's substantial involvement with recipients will include performing the following duties to further the NABDC's objectives:

a. Post-Award Conferences—MBDA shall conduct post-award conferences for all NABDC award recipients to insure that each NABDC has a clear understanding of the program and its components. The conference will: (1) Provide an MBDA Directory for NABDCs. Orient NABDC program officers; (2) Explain program reporting requirements and procedures; and (3) Identify available resources that can enhance the capabilities of the NABDC. Provide detailed information about MBDA's business and other information systems.

b. Networking, Promotion and Information Exchange—MBDA shall provide the following: (1) Access to business information systems, which support the work of the NABDC, as described in the Enhancing the NABDCs Through Technology section. This information will be provided by MBDA's Office of Information Technology. The specific information systems and access to them will be provided at the time of the award for a particular NABDC; (2) Sponsor one national and at least one regional conference; (3) Expand the Phoenix data bank of Native American-owned firms by requiring other MBDA-funded programs to provide additional entries; (4) Promote the exchange of business opportunity information within the MBDA funded system using the Phoenix and Opportunity databases located at www.mbda.gov; (5) Work closely with the NABDC to establish a system in which procurement and contract opportunities can be shared with the network of NABDCs. This system will include opportunities identified throughout the MBDA network using the Phoenix and Opportunity databases located at www.mbda.gov; (6) Help promote special events to be scheduled at the local community, state and national levels in celebration of MED Week, which occurs annually; and (7) Identify Federal, state and local governments, and private sector market opportunities to the NABDCs using the Phoenix and Opportunity databases located at www.mbda.gov.

c. Project Monitoring—MBDA will systematically monitor the performance of the NABDC. This monitoring includes regular review of data input to the performance database system, assessment of the end of the second quarter progress report, and an on-site review, when deemed necessary and appropriate by the regional office, of the center's client files to verify NABDC performance, reported assistance and interviews with clients assisted. In consultation with clients of the individual NABDC, MBDA will assess the Center's effectiveness in providing business development services to their respective Native American business communities. MBDA will then provide a report of findings and recommendations for improvement as a result of evaluations and monitoring visits. MBDA will approve qualifications of key NABDC staff and respond in a timely manner to correspondence requesting MBDA action.

Eligibility Criteria

For-profit and non-profit organizations (including sole-proprietorships), state and local government entities, American Indian Tribes, and educational institutions are eligible to operate NABDCs.

Award Period

The total award period is three (3) years. Funding will be provided annually at the discretion of MBDA and DoC, and will depend upon satisfactory performance by the recipient and availability of funds to continue the project. Project proposals accepted for funding will not compete for funding in subsequent funding periods within the approved award period. Publication of this notice does not obligate MBDA or DoC to award any specific cooperative agreement or to obligate all or any part of available funds.

Indirect Costs

The total dollar amount of the indirect costs proposed in an application under this program must not exceed the indirect cost rate negotiated and approved by a cognizant Federal agency prior to the proposed effective date of the award or 100 percent of the total proposed direct costs dollar amount in the application, whichever is less.

Application Forms and Package

Standard Forms 424, Application for Federal Assistance; 424A, Budget Information-Non-Construction Programs; and 424B, Assurances-Non-Construction Programs, SF-LLL (Rev. 7-97); Department of Commerce forms, CD-346, Applicant for Funding Assistance, CD-511, Certifications Regarding Debarment, Suspension and Other Responsibility matters: Drug-Free Workplace Requirements and Lobbying, CD-512, Certifications Regarding Debarment, Suspension, Ineligibility and Voluntary Exclusion-Lower Tier Covered Transactions and Lobbying shall be used in applying for financial assistance. These forms may be obtained by (1) contacting MBDA as described in the “CONTACT” section above; (2) by downloading Standard forms at www.whitehouse.gov/OMB/grants/index.html; (3) and Department of Commerce forms may be downloaded at www.doc.gov/forms. or (4) by applying on-line via the World Wide Web at MBDA's web site located at www.mbda.gov/e-grants.

Proposal Format

The structure of the proposal should contain the following headings, in the following order:

I. Table of Contents

I. Program Narrative

1. Applicant Capability

2. Resources

3. Techniques and Methodologies

4. Costs

II. Forms

Pages of the proposal should be numbered consecutively.

Project Funding Priorities

MBDA is especially interested in receiving innovative proposals that focus on the following: (1) identifying and working to eliminate barriers which limit the access of Native American businesses to markets and capital; (2) identifying and working to meet the special needs of Native American businesses seeking to obtain large-scale contracts (in excess of $500,000) with institutional customers; and (3) promoting the understanding and use of Electronic Commerce by the Native American business community.

Evaluation Criteria

Proposals will be evaluated and applicants will be selected based on the following criteria.

1. Applicant Capability (45 points)

The applicant's proposal will be evaluated with respect to the applicant firm's experience and expertise in providing the work requirements listed. Specifically, the proposals will be evaluated as follows:

• Experience in and knowledge of the Native American business sector and strategies for enhancing its growth and profitability (10 points);

• Resources and professional relationships within the corporate, banking and investment community that may be beneficial to Native American-owned firms (10 points);

• Experience and expertise in advocating on behalf of Native American businesses, both as to specific transactions in which a Native American business seeks to engage, and as to broad market advocacy for the benefit of the Native American community at large (10 points); and

• Assessment of the qualifications, experience and proposed role of staff who will operate the project, including possessing the expertise in utilizing information systems as contemplated under the Computer Requirements section of this Notice. (15 points).

Qualifications of the project director of the NABDC are of particular importance and must be included as part of the application, along with an original copy of his/her college transcript and a letter committing to one (1) year's service. Position descriptions and qualification standards for all staff should be included as part of the application. Applicants must provide a copy of their Articles of Incorporation, by-laws and IRS 501(c)(3) non-profit letter or other evidence of non-profit status.

2. Resources (25 points)

The applicant's proposal will be evaluated according to the following sub-criteria:

• Discuss how you plan to recruit, establish and maintain the network of 3 Strategic Partners (10 points).

• Discuss how you plan to accomplish the computer hardware and software requirements (5 points).

• Discuss those resources (not included as part of the cost-sharing arrangement) that will be used. Include commitment letters from those resources listed and indicate their willingness to work with the applicant. These resources can include such items as computer facilities, voluntary staff time and space, and financial resources. Three to five letters of support (with telephone numbers) from business or community organizations should be included from those resources willing to work with the applicant (10 points).

3. Techniques and Methodologies (20 points)

The applicant's proposal will be evaluated with respect to the proposed action plans and operation techniques. Specifically, the proposals will be evaluated as follows:

• The applicant's specific plan-of-action detailing how each work requirement, except for Strategic Partners which is addressed under Resources, will be met and how the techniques to be used will be implemented. The applicant will be evaluated on how effectively and efficiently all staff time will be used to achieve the work requirements (10 points).

• Discuss each performance measure by relating each one to the financial, information and market resources available in the geographic service area to the applicant and how the goals will be met (10 points).

4. Proposed Budget and Supporting Budget Narrative (10 points)

The applicant's proposal will be evaluated on the following sub-criteria:

• Reasonableness, allowability and allocability of costs (10 points).

Bonus Points: Proposed cost sharing, although not a requirement for NABDC application, will be awarded bonus points on the following scale: more than 0-5%—1 point; 6-10%—2 points; 11-15%—3 points; 16-20%—4 points; and over 20%—5 points.

An application must receive an average of at least 70% of the total points available for all four evaluation criterion, in order for the application to be considered for funding.

Indirect Costs: The indirect cost policies contained in OMB Circulars A-21, A-87 and A-122 will apply to MBDA awards for its business development programs. Indirect costs are those costs proposed for common or joint objectives and which cannot be readily identified with a particular cost objective. Therefore, if the MBDA award is to be the sole source of support for the applicant organization, all costs are direct costs and no indirect costs should be proposed.

Organizations with indirect costs that do not have an established indirect cost rate negotiated and approved by a cognizant Federal agency may still propose indirect costs. For the recipient to recover indirect costs, however, the proposed budget must include a line item for such costs. Also, the recipient must prepare and submit a cost allocation plan and indirect cost rate proposal as required by applicable OMB circulars (A-21, A-87 and A-122). The allocation plan and the rate proposal must be submitted to the Department's Office of Inspector General (OIG) for review and approval within 90 days from the effective date of the proposed award.

Audit Costs: Audits shall be performed in accordance with audit requirements contained in Office of Management and Budget Circular A-133, Audits of States, Local Governments, and Non-Profit Organizations, revised June 30, 1997. OMB Circular A-133 requires that non-profit organizations, government agencies, Indian tribes and educational institutions expending $300,000 or more in federal funds during a one-year period conduct a single audit in accordance with guidelines outlined in the circular. Applicants are reminded that other audits may be conducted by the Department's Office of Inspector General.

Management Fee: For-profit as well as not-for-profit organizations may negotiate their management fees, but they shall not exceed 7% of total estimated direct costs (Federal plus non-Federal) for the proposed award.

Program Income: Many of MBDA's business development services programs allow their awardees to charge a fee for services rendered to clients. Where applicable, fees are considered program income and shall be accounted for and may be used to finance the non-Federal cost-share of the project. Any excess fee income shall be used to further the program purpose in accordance with the terms and conditions of the award.

Selection Procedures

Prior to the formal paneling process, each application will receive an initial screening to ensure that all required forms, signatures and documentation are present. Each application will receive an independent, objective review by a panel qualified to evaluate the applications submitted. MBDA anticipates that the review panel will be made up of at least three independent reviewers who review all applications based on the above criteria. The review panel will evaluate and rank the proposals. The Director of MBDA makes the final recommendation to the Department of Commerce Grants Officer regarding the funding of applications, taking into account the following selection criteria:

1. The evaluations and rankings of the independent review panel;

2. The degree to which applications address MBDA priorities as established under the project funding priorities;

3. The availability of funding.

Unsuccessful Competition

On occasion, competitive solicitations or competitive panels may produce less than optimum results, such as competition resulting in the receipt of no applications or competition resulting in all unresponsive applications received. If the competition results in the receipt of only one application, it may or may not require additional action from MBDA depending upon the competitive history of the area, the quality of the application received, and the time and cost limits involved. In the event that any or all of these conditions arise, MBDA shall take the most time and cost-effective approach available that is in the best interest of the Government. This includes, but is not limited to: (1) Re-competition or (2) Re-Paneling or (3) Negotiation.

Other Requirements

1. Purchase of American-Made Equipment and Products: Applicants are hereby notified that they are encouraged, to the greatest extent practicable, to purchase American-made equipment and products with funding provided under this program.

2. Paperwork Reduction Act: This Notice involves collections of information subject to the Paperwork Reduction Act, which have been approved by OMB under OMB control numbers 0348-0043, 0348-0044, 0348-0040, and 0348-0046. Notwithstanding any other provision of law, no person is required to respond to nor shall a person be subject to a penalty for failure to comply with a collection of information subject to the requirements of the Paperwork Reduction Act unless that collection of information displays a current valid OMB control number.

3. Federal Policies and Procedures: Recipients and subrecipients are subject to all Federal laws and Federal and DoC policies, regulations, and procedures applicable to Federal financial assistance awards.

4. Past Performance: Unsatisfactory performance under prior Federal awards may result in an application not being considered for funding.

5. Preaward Activities: If applicants incur any costs prior to an award being made, they do so solely at their own risk of not being reimbursed by the Government. Notwithstanding any verbal or written assurance that may have been received, there is no obligation on the part of DoC to cover pre-award costs.

6. No Obligation for Future Funding: If an applicant is selected for funding, DoC has no obligation to provide any additional future funding in connection with that award. Renewal of an award to increase funding or extend the period of performance is at the total discretion of DoC.

7. Delinquent Federal Debts: No award of Federal funds shall be made to an applicant who has an outstanding delinquent Federal debt until either (i) Delinquent account is paid in full, (ii) A negotiated repayment schedule is established and at least one payment is received, or (iii) Other arrangements satisfactory to DoC are made.

8. Name Check Review: All non-profit and for-profit applicants are subject to a name check review process. Name checks are intended to reveal if any key individuals associated with the applicant have been convicted of or are presently facing criminal charges such as fraud, theft, perjury or other matters which significantly reflect on the applicant's management honesty or financial integrity.

9. Primary Applicant Certifications: All primary applicants must submit a completed Form CD-511, “Certifications Regarding Debarment, Suspension and Other Responsibility Matters; Drug-Free Workplace Requirements and Lobbying,” and the following explanations are hereby provided:

(i) Nonprocurement Debarment and Suspension: Prospective participants (as defined at 15 CFR Part 26, Section 105) are subject to 15 CFR Part 26, “Nonprocurement Debarment and Suspension” and the related section of the certification form prescribed above applies;

(ii) Drug-Free Workplace:

Grantees (as defined at 15 CFR Part 26, Section 605) are subject to 15 CFR Part 26, Subpart F, “Governmentwide Requirements for Drug-Free Workplace (Grants)” and the related section of the certification form prescribed above applies;

(iii) Anti-Lobbying: Persons (as defined at 15 CFR Part 28, Section 105) are subject to the lobbying provisions of 31 U.S.C. 1352, “Limitation on use of appropriated funds to influence certain Federal contracting and financial transactions,” and the lobbying section of the certification form prescribed above applies to applicants/bids for grants, cooperative agreements, and contracts for more than $100,000, and loans and loan guarantees for more than $150,000, or the single family maximum mortgage limit for affected programs, whichever is greater; and

(iv) Anti-Lobbying Disclosures: Any applicant that has paid or will pay for lobbying using any funds must submit an SF-LLL, “Disclosure of Lobbying Activities,” as required under 15 CFR Part 28, Appendix B.

10. Lower Tier Certifications: Recipients shall require applications/ bidders for subgrants, contracts, subcontracts, or other lower tier covered transactions at any tier under the award to submit, if applicable, a completed Form CD-512, “Certifications Regarding Debarment, Suspension, Ineligibility and Voluntary Exclusion-Lower Tier Covered Transactions and Lobbying” and disclosure form, SF-LLL, “Disclosure of Lobbying Activities.” Form CD-512 is intended for the use of recipients and should not be transmitted to DoC. SF-LLL submitted by any tier recipient or subrecipient should be submitted to DoC in accordance with the instructions contained in the award document.

11. False Statements: A false statement on an application for Federal financial assistance is grounds for denial or termination of funds, and grounds for possible punishment by a fine or imprisonment as provided in 18 U.S.C. 1001.

12. Intergovernmental Review: Applications under this program are not subject to Executive Order 12372, “Intergovernmental Review of Federal Programs.”

13. Executive Order 12866: This Notice was determined to be not significant for purposes of Executive Order 12866.

Dated: August 14, 2000.
Courtland Cox,
Director, Minority Business Development Agency.
Juanita E. Berry,
Federal Register Liaison Officer, Minority Business Development Agency.

[FR Doc. 00-21859 Filed 8-25-00; 8:45 am]

BILLING CODE 3510-21-P